DEPARTMENT OF AGRICULTURE

Submission for OMB Review; Comment Request

June 15, 2020.

The Department of Agriculture will submit the following information collection requirement(s) to OMB for review and clearance under the Paperwork Reduction Act of 1995, Public Law 104-13 on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology. Comments regarding these information collections are best assured of having their full effect if received by July 20, 2020. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Agricultural Marketing Service

Title: Tobacco Reports.

OMB Control Number: 0581-0004.

Summary of Collection: Authority for the mandatory collection of information on form TB-26 “Tobacco Stocks Report” is the Tobacco Statistics Act of 1929 (7 U.S.C. 501-508). The Act provides for the collection and publication of statistics of tobacco by USDA with regard to quantity of leaf tobacco in all forms in the United States and Puerto, owned by or in the possession of dealers, manufacturers, growers' cooperative associations, and others with the exception of the original growers of the tobacco. The information furnished under the provisions of this Act is used only for statistical purposes for which it is supplied.

The Agricultural Marketing Act of 1946 (7 U.S.C. 1621-1627) directs and authorizes USDA to collect, tabulate, and disseminate statistics on marketing agricultural products including market supplies, storage stocks, quantity, quality and condition of such products in various positions in the marketing channel, utilization of sub-products, shipment, and unloads.

Need and Use of the Information: The basic purpose of the information collection is to ascertain the total supply of unmanufactured tobacco available to domestic manufacturers and to calculate the amount consumed in manufactured tobacco products. This data is also used for the calculation of production quotas for individual types of tobacco and for price support calculations.

Without the information, USDA would not be able to disseminate marketing information as directed and authorized in the Act.

Description of Respondents: Business or other for-profit.

Number of Respondents: 47.

Frequency of Responses: Reporting: Quarterly; Annually.

Total Burden Hours: 166.

Agricultural Marketing Service

Title: Pistachios Grown in California, Arizona and New Mexico.

OMB Control Number: 0581-0215.

Summary of Collection: The Pistachio Marketing Order, (7 CFR part 983), covering pistachios grown in California, Arizona and New Mexico is established and regulated under the Agricultural Marketing Agreement Act of 1937, Secs. 1-19, 48 Stat. 31, as amended, (7 U.S.C. 601-674), herein referred to as the Act. The Act authorizes the formation of marketing orders for certain agricultural commodities to provide orderly marketing conditions in interstate and intrastate commerce and to improve producer returns. The order regulates the handling of pistachios, authorizes grade and size requirements, as well as a requirement for aflatoxin testing on domestic shipments only. The Secretary is authorized to oversee the order operations and issue regulations recommended by representatives from the Pistachio Committee.

Need and Use of the Information: The Agricultural Marketing Service has developed forms as a convenience for handlers and producers who are required to file certain information with the Committee relating to pistachio supplies, shipments, dispositions, and other information needed to effectively implement the requirements of the order and carry out the purposes of the Act. If the information collection herein was not collected, the Secretary could not ascertain the support level for the order, nor in fact, carry out obligations required by the Act. Use of the forms is required by regulations governing marketing order administration. Collecting data less frequently would also eliminate the Secretary's ability to administer the order.

Description of Respondents: Business or other for profit; Farms.

Number of Respondents: 1,200.

Frequency of Responses: Reporting: On occasion; Weekly; Monthly; Quarterly; Biennially; Semi-annually; Annually.

Total Burden Hours: 541.

Agricultural Marketing Service

Title: Christmas Tree Promotion, Research, and Information Order.

OMB Control Number: 0581-0268.

Summary of Collection: A Christmas Tree Promotion, Research and Information Order created under the Commodity Promotion, Research, and Information Act of 1996 (Pub. L. 104-127, 110 Stat. 1032, April 4, 1996, 7 U.S.C. 744-7425) requires collection of information to carry out the program. This legislation is hereinafter referred to as the 1996 Act. Under the enabling legislation, Congress has delegated the Department of Agriculture (USDA) the responsibility of establishing and overseeing agricultural commodity research and promotion orders, which may include a combination of promotion, research, industry information, and consumer information activities funded by mandatory assessments.

The program includes projects relating to research, information, advertising, sales promotion, market development and production research to assist, improve, or promote the marketing, distribution, competitive position and stimulate sales of Christmas trees.

Need and Use of the Information: The Christmas tree program will be administered by the Christmas Tree Promotion Board appointed by the Secretary of Agriculture and financed by a mandatory assessment on producers and importers of fresh cut Christmas trees. The program will provide for an exemption for producers and importers that cut and sell or import fewer than 500 Christmas trees annually. The forms covered under this collection require the minimum information necessary to effectively carry out the requirements of the program, and their use is essential to carry out the intent of the Order. If the information collection herein were not collected, the Board could not carry out the coordinated research, promotion, consumer education, and industry information program on Christmas trees, ensure compliance with the mandatory program or ensure proper assessment collection. Collecting data less frequently also would limit the Secretary's ability to oversee the Order.

Description of Respondents: Producers and Importers.

Number of Respondents: 7,500.

Frequency of Responses: Reporting: Annually; Recordkeeping.

Total Burden Hours: 6,106.

Agricultural Marketing Service

Title: Information Collection for the Domestic Hemp Production Program.

OMB Control Number: 0581-0318.

Summary of Collection: The Agricultural Improvement Act of 2018 (2018 Farm Bill) amended the Agricultural Marketing Agreement of 1946 and was signed into law December 20, 2018, as Public Law 115-334. Sec. 10113 of the 2018 Farm Bill amended the Agricultural Marketing Act of 1946 (7 U.S.C. 1621 et seq.) by adding Subtitle G—Hemp Production. The law required U.S. Department of Agriculture (USDA) to promulgate regulations and guidelines to develop and oversee a program for the production of hemp in the United States. The 2018 Farm Bill directs that this will include state and tribal plans, and a USDA plan for those States, including territories of Indian tribes, that choose not to submit their own plan. The proposed information collection and reporting requirements will facilitate the effective administration and oversight of the Domestic Hemp Production Program.

Need and Use of the Information: This Program requires licensed producers and approved State and Tribal governments to maintain information on the land where hemp is produced, hemp testing results for delta-9 tetrahydrocannabinol, and disposal of plants not meeting necessary requirements. Additionally, all licensed producers must report hemp crop acreage to the USDA Farm Service Agency (FSA). The information on all reports must be kept for a minimum of three years. This new information collection created seven new reporting forms and one already existing form. The information reported for data collected under State and Tribal plans incorporates the burden to producers licensed under State and Tribal plans associated with providing the required information.

The State and Tribal Hemp Producer Report, State and Tribal Hemp Disposal Report and the State and Tribal Hemp Annual Report forms will require States and Tribes to provide USDA with contact information, a legal description of land, the disposal information for any non-compliant hemp and harvest information for each producer.

Producers under the USDA program complete the USDA Hemp Plan Producer License Application, the USDA Hemp Plan Producer Disposal Form, and the USDA Hemp Plan Producer Annual Report. Every producer under a State, Tribal or the USDA program completes the Report of Acreage. Laboratory personnel complete the Laboratory Test Results Report.

The Agricultural Marketing Service will use the information from these forms to ensure that each producer and approved State and Tribe is properly complying with the regulations. If the information collection herein was not collected, the Secretary could not adequately administrate the Domestic Hemp Production Program.

Description of Respondents: Hemp producers, States and Tribal governments with approved hemp production plans; Laboratory personnel.

Number of Respondents: 9,100.

Frequency of Responses: Reporting: On occasion; Monthly; Annually.

Total Burden Hours: 17,363.

Ruth Brown,
Departmental Information Collection Clearance Officer.

[FR Doc. 2020-13181 Filed 6-17-20; 8:45 am]

BILLING CODE 3410-02-P